DEPARTMENT OF HOMELAND SECURITY

[Docket No. DHS-2022-0029]

Homeland Security Advisory Council New Projects

AGENCY: The Office of Partnership and Engagement (OPE), The Department of Homeland Security (DHS).

ACTION: Notice of initial projects for the Homeland Security Advisory Council.

SUMMARY: The Secretary of the Department of Homeland Security (DHS), Alejandro N. Mayorkas, directed his Homeland Security Advisory Council (HSAC) to establish a subcommittee entitled Assessment of Disinformation Best Practices and Safeguards on May 18, 2022. The Disinformation Best Practices and Safeguards subcommittee will provide findings and recommendations to the HSAC on how the Department can most effectively and appropriately address disinformation that poses a threat to the homeland, while increasing transparency and protecting free speech, civil rights, civil liberties, and privacy.

The Secretary also directed the HSAC to establish a subcommittee entitled Assessment of Customer Experience and Service Delivery on May 18, 2022. The Customer Experience and Service Delivery subcommittee will provide findings and recommendations to the HSAC on how the Department can improve its customer experience and service delivery mechanisms to meet customer and community needs, including by leveraging technology and other innovations and increasing efficiency.

This notice is not a solicitation for membership.

FOR FURTHER INFORMATION CONTACT: Michael J. Miron, Deputy Executive Director of the Homeland Security Advisory Council, The Office of Partnership and Engagement, U.S. Department of Homeland Security at 202-282-8000 or HSAC@hq.dhs.gov.

SUPPLEMENTARY INFORMATION: The HSAC provides organizationally independent, strategic, timely, specific, and actionable advice and recommendations for the consideration of the Secretary of the Department of Homeland Security on matters related to homeland security. The HSAC is comprised of leaders in local law enforcement, first responders, public health, State, local and tribal government, national policy, the private sector, and academia.

Tasking (1): The Disinformation Best Practices and Safeguards subcommittee will provide findings and recommendations to the HSAC on how the Department can most effectively and appropriately address disinformation that poses a threat to the homeland, while increasing transparency and protecting free speech, civil rights, civil liberties, and privacy.

The subcommittee's assessment will include, but need not be limited to, the following:

1. Recommendations for how the Department can most effectively and appropriately address disinformation that poses a threat to the homeland, while protecting free speech, civil rights, civil liberties, and privacy, including through proposed unified principles to guide the Department's disinformation-related work; and,

2. Recommendations for how to achieve greater transparency across our disinformation-related work, including to increase trust with the public and other key stakeholders, in a way that could serve as a model for achieving transparency in other mission areas.

Tasking (2): As noted above, the Customer Experience and Service Delivery subcommittee will provide findings and recommendations to the HSAC on how the Department can improve our customer experience and service delivery mechanisms to meet customer and community needs, including by leveraging technology and other innovations and increasing efficiency.

DHS interacts with the public on a daily basis more than any other federal agency. It is among our top priorities to ensure we are effectively meeting the needs of the diverse communities we serve. To this end, we are focused on facilitating lawful trade and travel more efficiently, modernizing our ports of entry and border processing, increasing equity in disaster assistance programs, streamlining the process to deliver legal immigration benefits, increasing our transparency and openness with the public, strengthening the cybersecurity of public and private sector partners, and much more.

The assessment of our customer experience and service delivery mechanisms will include, but need not be limited to, the following:

1. Recommendations for how to better design the Department's delivery of services to meet customer and community needs, including by (a) leveraging technology and other innovations to reduce burdens on the public, and (b) increasing the adoption of best practices to maximize efficiency and improve the customer experience across relevant mission areas;

2. Recommendations for how the Department can measure customer experience and service delivery effectiveness, establish targets for improvement, and ensure that our programs, policies, and operations improve equity and protect privacy, civil rights, and civil liberties; and,

3. Recommendations for how the Department can better exchange with the private sector the knowledge, talent, and best practices around customer experience and service delivery, such as through executives-in-residence and public sector leave programs.

Schedule (1): The Disinformation Best Practices and Safeguards subcommittee's findings and recommendations will be submitted to the HSAC for its deliberation and vote during a public meeting. Once the report is voted on by the HSAC, it will be sent to the Secretary for his review and acceptance. Disinformation Best Practices and Safeguards subcommittee findings and recommendations should be submitted to the HSAC by August 1, 2022.

Schedule (2): The Customer Experience and Service Delivery subcommittee's findings and recommendations will be submitted to the Homeland Security Advisory Council for its deliberation and vote during a public meeting. Once the report is voted on by the HSAC, it will be sent to the Secretary for his review and acceptance. Customer Experience and Service subcommittee findings and recommendations should be submitted to the Homeland Security Advisory Council by October 19, 2022.

Dated: May 20, 2022.
Michael J. Miron,
Deputy Executive Director, Homeland Security Advisory Council, Department of Homeland Security.

[FR Doc. 2022-11279 Filed 5-25-22; 8:45 am]

BILLING CODE 9112-FN-P